DEPARTMENT OF HEALTH AND HUMAN SERVICES

National Institutes of Health

NIH Bethesda Surgery, Radiology and Laboratory Medicine Record of Decision

AGENCY: National Institutes of Health, HHS.

ACTION: Notice.

SUMMARY: The Department of Health and Human Services, the National Institutes of Health (NIH), has decided, after completion of a Final Environmental Impact Statement (FEIS) and a thorough consideration of the public comments on the Draft EIS, to implement the Proposed Action, referred to as the Proposed Action in the Final EIS. The Surgery, Radiology and Laboratory Medicine (SRLM) action is for construction of an additional 527,100 gross square feet (gsf) to the exiting Building 10. In addition to 527,100 gsf of space in the new building, the Proposed Action will include renovation of 102,600 gsf of existing space within the West Laboratory Wing of the Clinical Research Center. The footprint of the SRLM will occupy 55,500 gsf. A proposed patient parking garage is also included in the proposed action. The proposed garage will be a multi-level, self-park garage, accommodating approximately 780 cars.

FOR FURTHER INFORMATION CONTACT: Valerie Nottingham, Deputy Director, DEP, ORF, NIH, Building 13, Room 2S11, 9000 Rockville Pike, Bethesda, MD 20892, Phone 301-496-7775, nihnepa@mail.nih.gov. RESPONSIBLE OFFICIAL: Daniel G. Wheeland, Director, Office of Research Facilities (ORF) Development and Operations, NIH.

SUPPLEMENTARY INFORMATION:

Decision

After careful review of the environmental consequences in the Final Environmental Impact Statement for the SRLM, National Institutes of Health Bethesda Campus, and consideration of public comment throughout the National Environmental Policy Act of 1969 (NEPA) process, NIH has decided to implement the Proposed Action described below as the Selected Alternative.

Selected Alternative

The Selected Alternative is intended to further the NIH mission: To seek fundamental knowledge about the nature and behavior of living systems and the application of that knowledge to enhance health, lengthen life, and reduce illness and disability.

The Selected Alternative will meet the purpose and need of the project in several ways. First, the spatial deficiencies would be addressed by moving the current operations to surgical, radiological, laboratory, and office spaces that consolidate and organize activities in an efficient manner. Next, the SRLM Building will be designed with the flexibility to address future growth and change, including floor-to-ceiling heights and other features capable of accommodating equipment associated with newer technologies. The SRLM Building will also incorporate upgraded, up-to-date infrastructure systems which will be more reliable, and will ensure the ability to control temperature and humidity. The SRLM Building will address unacceptable vibration levels by using more robust construction materials and methods. The Selected Alternative will be constructed to meet progressive collapse requirements and blast criteria.

Security and safety issues associated with the current Building 10 parking garage will be addressed by eliminating exposure to deteriorated and spalling concrete in the existing garage. The Utility Vault portion of the project will enable NIH to replace critical electrical equipment that is beyond its service life.

Alternatives Considered

The Proposed Action Alternative and No Action Alternative were the two alternatives analyzed in the Final EIS. Other alternatives were considered but not carried forward due to their inability to meet the purpose and need of the project.

Factors Involved in the Decision

Several factors were involved during the decision-making process; these include spatial deficiencies, inability to house new technologies, security and safety, and an aging switching station.

Spatial deficiencies severely impact the operating rooms, radiology suite and clinical laboratory. Both patients and staff lack sufficient support space as they undergo care and conduct treatment protocols. The distribution systems for electrical, duct work, and piping are degrading and require replacement, but this work cannot be done while the space is occupied. The building's floor-to-floor heights are deficient by today's utility requirements and cannot contain the necessary utility distribution systems. A lack of utility capacity and control results in work environments that suffer from poor temperature and humidity control. These environmental factors can also negatively impact the patient samples that are being processed and tested.

Since the clinical research facility opened more than 34 years ago, biomedical research and its supporting clinical programs have rapidly evolved influencing the criteria for space and infrastructure systems. The rapid evolution of equipment (changing every three to five years) has had a direct impact on both space requirements and utility systems that support them. Hospital surgical suites are typically replaced every 20 years to keep up with the latest technological advancements, operating room equipment, and techniques. The existing facility has not kept pace with modern surgical, imaging, and clinical laboratory facility requirements, and cannot accommodate evolving requirements.

Currently, patient, visitor, and staff parking is partially accommodated in an underground parking garage located below the Ambulatory Care Research Facility tower. More specifically, existing parking is located directly below surgery, radiology, and laboratory areas of the complex, which makes repairs to the garage expensive, due to patient occupancy on floors above. The current garage has serious structural deficiencies due to corrosion of the concrete and underlying (exposed) rebar, despite on-going maintenance. The concrete and rebar corrosion is from years of salt and chemicals brought into the garage by the vehicle traffic. This condition poses a safety threat to users of the facility, and a liability threat to the government, due to the potential for falling pieces of concrete.

The equipment in Buildings 59 and 59A is aging and will soon need replacement due to space constraints, the inability to acquire replacement parts, and failure of the current system to meet requirements of the Life Safety Code (National Fire Protection Association 101) and Environment of Care standards of the Joint Commission.

Resources Impacted

The Final EIS describes potential environmental effects of the Selected Alternative. These potential effects are documented in Chapter 3 of the Final EIS. Any potential adverse environmental effects will be avoided or mitigated through design elements, procedures, and compliance with regulatory and NIH requirements. Potential impacts on air quality are all within government standards (federal, state, and local). NIH does not expect significant negative effects on the environment or on the citizens of Bethesda from construction and operation at NIH.

Summary of Impacts

The following is a summary of potential impacts resulting from the Selected Alternative that NIH considered when making its decision. No adverse cumulative effects have been identified during the NEPA process. Likewise, no unavoidable or adverse impacts from implementation of the Selected Alternative have been identified. The Selected Alternative will be beneficial to the long-term productivity of the national and international biomedical research communities. As a result of the Selected Alternative, biomedical research conducted at the NIH facilities on the campus will experience an enhanced potential of advance techniques in disease prevention and cures, development of infectious disease vaccinations, and preparation of defenses against naturally emerging and re-emerging diseases and against bioweapons. Additionally, the local community will benefit from increased employment, housing, and investment

Housing

Under the Selected Alternative, the action will result in temporary minor impacts on the population and the availability of housing, due to construction workers who might temporarily relocate to the area. The Proposed Action will result in no permanent impacts to these resources as there is no projected change in staff. Temporary impacts on population and housing associated with construction activities are expected to be minor as Bethesda is a densely populated urban area and therefore the small temporary increase in population would be very small on a percentage basis.

Education

The Selected Alternative does not involve any projected change in staff or campus census. If any new employees are hired, the numbers will be modest, and the current public school capacity in Bethesda or Montgomery County and surrounding school districts is adequate to accommodate the expected minimal growth caused by the Selected Alternative.

Transportation

Implementation of the Selected Alternative will result in minor temporary impacts to off-Campus roads, transit, and traffic due to construction activities. This will include additional traffic due to construction vehicles, as well as shifts in employee and patient traffic patterns.

Construction vehicles, estimated at well less than 100 vehicles per day will be screened at the Commercial Vehicle Inspection Station (CVIF) on Rockville Pike, and then enter via Wilson Drive. As reported in the 2015 Chilled Water EIS, peak morning traffic at Rockville Pike and Wilson Drive, which is just south of the CVIF, is 2,800 cars southbound on Rockville Pike and 1,100 cars northbound on Rockville Pike. It is assumed peak traffic on those roads is similar to or higher than was reported in 2015. Therefore, the overall impact to off-Campus roads will be minor as the number of construction vehicles would be minimal (<100 vehicles per day) relative to existing traffic counts.

Security

The Selected Alternative will not be expected to have adverse impacts on security on the NIH Campus. No new security measures are proposed in the Selected Alternative.

Employment

The Selected Alternative does not involve any projected change in staff.

Environmental Justice

The Selected Alternative will not be expected to have disproportionately high or adverse impacts on low income or minority populations of the affected area.

Visual Quality

During construction of the Surgery Radiology and Laboratory Medicine (SRLM), Patient Parking Garage (PPG) and Utility Vault (UV), direct visual impacts will occur on Campus. Large construction equipment will be deployed in the project area for the duration of activities. It is anticipated that cranes, earth-moving equipment, concrete trucks and other heavy machinery will be in use for approximately 6 years. Due to the phased approach, the construction duration is extended, and this will represent a moderate, direct impact to visual resources at the project location. Off-Campus observers may also be directly impacted as some of the trees currently screening the Building 10 Complex from external views would be removed during construction. This impact will be considered minor, however, as the distance from the property line would reduce the scale of the equipment. Additional minor impacts are anticipated due to the partial closure of Center Drive and redirection of traffic during construction.

Noise

Implementation of the Selected Alternative will result in direct, temporary, minor noise impacts due to construction activities as well as direct, long-term, moderate noise impacts due to operational changes at the SRLM, PPG, and UV.

Construction activities associated with the Selected Alternative will temporarily increase environmental noise levels in the vicinity of the project site, primarily due to the use of heavy equipment. Equipment that may be used includes backhoes, bulldozers, and excavators. Construction equipment noise emission levels generally range between 74 to 101 dBA 50 feet from the source, depending on the type of equipment (U.S. DOT FHWA, 2014). Residents at the Convent will likely experience elevated noise levels during construction activities. NIH will mitigate the impact of this construction noise by limiting most construction activity to between the hours of 7 a.m. and 5 p.m. NIH will ensure that noise levels from construction activities will not exceed 75 dBA at neighboring properties or 85 dBA if a noise suppression plan is approved by the Montgomery County Department of Environmental Protection. Most of the construction noise will be temporary and will dissipate as the distance from the source increases. It is expected that residents in surrounding neighborhoods will not experience noise louder than the applicable noise limit.

Construction personnel will take the necessary precautions (e.g., hearing protection) to ensure that they will not be exposed to noise louder than the Occupational Safety and Health Administration standard of 90 dBA for 8 hours. Because the construction of the SRLM, PPG, and UV will result in the temporary loss of some parking spaces at surface parking lot 10E and the Building 10 garage, some vehicular traffic will be redirected to other parking areas at the Campus. While these other destinations may see an increase in vehicular traffic, the increases are expected to be minor and will not be expected to substantially alter the noise levels anywhere at the Campus. Any added traffic noise will blend with ambient noise.

The Selected Alternative will include installation of new equipment, including pumps and generators at the UV. NIH will mitigate operational noise from this equipment by enclosing the equipment inside utility buildings and providing sound-attenuating measures such as mufflers for the emergency generators. Due to this mitigation, operational noise from all elements of the Selected Alternative will be expected to be below regulatory thresholds.

The Selected Alternative may change traffic patterns during the operations phase, as more services will be consolidated at the SRLM complex and as parking shifts from Building 10 to the PPG. However, an overall increase in traffic is not anticipated. General operations will continue to meet the Montgomery County nighttime noise ordinance of 55 dBA at the property lines. If necessary, NIH would utilize noise suppression techniques in order to meet that requirement.

Overall, construction impacts will be minimal and temporary, and operational impacts will be minor.

Air Quality

In order to demonstrate that the Selected Alternative will result in minor increases in emissions, NIH conservatively performed a General Conformity Rule (GCR) and air emission calculations. This analysis conservatively estimates the emissions of nonattainment criteria pollutants during construction of the proposed facilities for the entire 6-year construction period. The conservative results, even assuming that the total emissions over approximately six construction years will occur only within a single year, show no exceedance of the applicable de minimis criteria of 100 tons per year (tpy) for NOX, 50 tpy of VOC, and 100 tpy of CO and PM2.5. Therefore, the Selected Alternative will have minimal air quality impacts and will not require a formal conformity determination. These incremental emissions will also be well below the Prevention of Significant Deterioration (PSD) major source threshold of 250 tpy. The PSD program is applicable to the attainment area. Therefore, it is anticipated that the attainment pollutant emissions under construction of the Selected Alternative will be minimal resulting in no significant air quality impacts.

NIH will work with the Maryland Department of the Environment (MDE) to determine regulatory applicability of the New Source Performance Standards (NSPS) and National Emission Standards for Hazardous Air Pollutants (NESHAP) to the new generators, as necessary. However, the Selected Alternative does not include any change in operations for any of the departments affected except relocation and consolidation, which will result in more efficient operations. There will be no associated change in the numbers of employees or patients, and therefore no impact to traffic levels or need for parking. There will be no change in the need for or amounts of utilities provided to support operations. The new generators will replace the current generators, so will not result in an increase in air emissions. Therefore, the need to update the current facility air permits, such as the Campus Title V permit, is not anticipated. Thresholds specified in Code of Maryland Regulation (COMAR) 26.11.02.10 are not expected to be exceeded; operational emissions are not expected to exceed New Source Review or Prevention of Significant Deterioration levels. The air quality effects of criteria pollutants at the Campus would be insignificant under operations of the Selected Alternative and will not interfere with regional efforts to meet the National Ambient Air Quality Standards.

Water Resources

NIH will implement appropriate pollution prevention measures to avoid spills and exposure of groundwater to contamination. These measures could include using booms or pigs during fuel transfer, protecting excavations during fuel transfer and use, and implementation of stormwater management controls during construction.

Implementation of the Selected Alternative could result in minor indirect impacts to the NIH Stream due to runoff from construction sites, which could enter stormwater sewer drains that lead to that stream. Impacts to surface waters resulting from the construction projects are likely to be minor due to compliance with state and federal regulations and mitigation measures. Mitigation measures include development of and adherence to sediment and erosion control plans, stormwater management plans, and implementation of pollution prevention measures to ensure that sediments, petroleum products and other contaminants do not migrate to the storm drains during construction.

Implementation of the Proposed Action will result in minor temporary impacts to stormwater quantity and quality due to earth disturbances during construction activities. The Limits of Disturbance (LOD) for the Proposed Action, will be approximately 378,972 SF (8.7 acres) of earth during construction activities.

Potential erosion and sediment runoff impacts will be mitigated through implementation of stormwater management practices, including the development of an erosion and sediment control plan that is approved by MDE. The construction of the SRLM, PPG, and UV will disturb more than one acre and therefore will obtain coverage under the MDE 2014 General Permit for Stormwater Associated with Construction Activity (MDE, 2014). As a result, construction activities under the Selected Alternative will have a minor impact on stormwater quality. Additionally, some of the existing stormwater drainage systems will have to be modified or moved as they are currently within the LOD. NIH will design and construct replacement systems so as not to impact existing drainage characteristics.

Implementation of the Selected Alterative will result in minor long-term stormwater management impacts. The project area covers a total of 8.7 acres. The Selected Alternative will increase impervious surface at the Campus by approximately 125,196 SF (2.9 acres), which will increase runoff within the Rock Creek Watershed relative to baseline conditions. The construction of the SRLM, PPG, and UV will each disturb greater than 5,000 SF, and therefore site design will be required to meet EISA 2007 Section 438 requirements to restore each site to predevelopment conditions. This requirement will minimize hydrologic impacts resulting from increased stormwater runoff volumes, such as damage to storm sewer infrastructure, increased likelihood of flooding, and increased erosion.

The Selected Alternative will require permanent site stormwater management to control runoff and provide water quality treatment per federal and Maryland stormwater regulations. Long-term stormwater management facilities will be designed and installed per an MDE approved stormwater management plan. Construction of the SRLM, PPG, and UV will incorporate bioretention areas including stormwater planter boxes. These vegetated areas will infiltrate runoff from impervious surfaces at the sites, reducing the quantity of stormwater runoff and improving the water quality. NIH will incorporate appropriate and feasible Environmental Site Design (ESD) practices into the project designs to restore the predevelopment hydrology to the maximum extent technically feasible. Overall, these practices will reduce runoff volume and rate, disperse flow, remove pollutants, and provide for groundwater recharge by facilitating infiltration into the soil. These measures will have the potential to benefit the ability of NIH to meet the Campus' Total Maximum Daily Load (TMDL) nutrient and sediment load reduction requirements, and thus comply with the Campus' Municipal Separate Storm Sewer System (MS4) TMDL.

Historic Resources

Pursuant to Section 106 of the National Historic Preservation Act, NIH initiated consultation with the Maryland State Historic Preservation Officer (MD SHPO) to obtain their concurrence with this finding. The MD SHPO requested additional information regarding the project on 29 May 2019.

NIH provided the additional information to the MD SHPO and on July 21, 2020, a representative from the Maryland Historical trust concurred with NIH on their findings of no adverse effect associated with the Selected Alternative.

Practicable Means To Avoid or Minimize Potential Environmental Harm From the Selected Alternative

All practicable means to avoid or minimize adverse environmental effects from the Selected Action have been identified and incorporated into the action. The proposed construction will be subject to the existing NIH pollution prevention, waste management, and safety, security, and emergency response policies and procedures as well as existing environmental permits. Best management practices, spill prevention and control, and stormwater management plans will be followed to appropriately address the construction and operation envisioned in the Selected Alternative and comply with applicable regulatory and NIH requirements. No additional mitigation measures have been identified.

Pollution Prevention

Air quality permit standards will be met, as will all federal, state, and local requirements to protect the environment and public health.

Conclusion

Based upon review and careful consideration, NIH has decided to implement the Selected Alternative for the construction of the SRLM, Patient Parking garage, and associated Utility Vault on the Bethesda NIH Campus located in Bethesda, Maryland. The decision accounts for the need of NIH to further the fundamental mission of clinical research by providing facilities that support the NIH mission. The decision was based upon review and careful consideration of the impacts identified in the Final EIS and public comments received throughout the NEPA process.

Separate NEPA reviews, when required, will be done on projects that may come about during the planning and design process. Proper NEPA documentation will be completed based on the outcome of that review.

Dated: August 22, 2020.
Lawrence A. Tabak,
Principal Deputy Director, National Institutes of Health.

[FR Doc. 2020-18926 Filed 8-27-20; 8:45 am]

BILLING CODE 4140-01-P